DEPARTMENT OF ENERGY

Federal Energy Regulatory Commission

Combined Notice of Filings

January 9, 2009.

Take notice that the Commission has received the following Natural Gas Pipeline Rate and Refund Report filings:

Docket Numbers: RP95-408-072.

Applicants: Columbia Gas Transmission, LLC.

Description: Columbia Gas Transmission, LLC submits Substitute Twenty-Fourth Revised Sheet 29 to its FERC Electric Tariff, Second Revised Volume 1 to be effective 2/1/09.

Filed Date: 01/07/2009.

Accession Number: 20090108-0379.

Comment Date: 5 p.m. Eastern Time on Wednesday, January 21, 2009.

Docket Numbers: RP96-331-021.

Applicants: National Fuel Gas Supply Corporation.

Description: National Fuel Gas Supply Corporation submits part of its FERC Gas Tariff, Fourth Revised Volume 1, an original and five copies of Second Sub. Eighth Revised Sheet 12 bearing an issuance date of 1/5/09 to be effective 12/1/08.

Filed Date: 01/05/2009.

Accession Number: 20090107-0145.

Comment Date: 5 p.m. Eastern Time on Wednesday, January 21, 2009.

Docket Numbers: RP03-36-040.

Applicants: Dauphin Island Gathering Partners.

Description: Dauphin Island Gathering Partners submits Forty-Second Revised Sheet 9, part of its FERC Gas Tariff, First Volume 1 effective.

Filed Date: 01/07/2009.

Accession Number: 20090108-0377.

Comment Date: 5 p.m. Eastern Time on Wednesday, January 21, 2009.

Docket Numbers: RP03-323-015.

Applicants: Williston Basin Interstate Pipeline Co.

Description: Supplemental Information for Tariff Filing Withdrawal by Williston Basin Interstate Pipeline Company.

Filed Date: 01/06/2009.

Accession Number: 20090106-5119.

Comment Date: 5 p.m. Eastern Time on Wednesday, January 21, 2009.

Docket Numbers: RP08-257-003.

Applicants: Saltville Gas Storage Company L.L.C.

Description: Saltville Gas Storage Company LLC submits First Revised Sixth Revised Sheet 11 et al., part of its FERC Gas Tariff, Original Volume 1 to be effective 9/1/08.

Filed Date: 01/07/2009.

Accession Number: 20090108-0380.

Comment Date: 5 p.m. Eastern Time on Wednesday, January 21, 2009.

Docket Numbers: RP09-110-001.

Applicants: Northern Natural Gas Company.

Description: Northern Natural Gas Company submits Substitute 11 Revised Sheet 286 et al. of its FERC Electric Tariff, Fifth Revised Volume 1 to be effective 12/26/09.

Filed Date: 01/07/2009.

Accession Number: 20090108-0378.

Comment Date: 5 p.m. Eastern Time on Wednesday, January 21, 2009.

Docket Numbers: RP09-115-001.

Applicants: Southern Star Central Gas Pipeline, Inc.

Description: Southern Star Central Gas Pipeline, Inc submits Substitute Ninth Revised Sheet 12, part of its FERC Gas Tariff, Original Volume 1, to be effective 1/1/09.

Filed Date: 01/07/2009.

Accession Number: 20090108-0376.

Comment Date: 5 p.m. Eastern Time on Wednesday, January 21, 2009.

Docket Numbers: RP09-203-000.

Applicants: Williston Basin Interstate Pipeline Company.

Description: Williston Basin Interstate Pipeline Company submits Sixth Revised Sheet 293 to FERC Gas Tariff, Second Revised Volume 1.

Filed Date: 01/06/2009.

Accession Number: 20090108-0105.

Comment Date: 5 p.m. Eastern Time on Wednesday, January 21, 2009.

Docket Numbers: RP09-204-000.

Applicants: Carolina Gas Transmission Corporation.

Description: 2008 Interruptible Revenue Sharing Report for Carolina Gas Transmission Corporation.

Filed Date: 01/07/2009.

Accession Number: 20090107-5069.

Comment Date: 5 p.m. Eastern Time on Wednesday, January 21, 2009.

Docket Numbers: RP09-205-000.

Applicants: Texas Eastern Transmission LP.

Description: Texas Eastern Transmission, LP submits its FERC Gas Tariff, Seventh Revised Volume 1 and copies of Seventh Revised Sheet 543A to be effective 2/7/09.

Filed Date: 01/07/2009.

Accession Number: 20090108-0381.

Comment Date: 5 p.m. Eastern Time on Wednesday, January 21, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. E9-1367 Filed 1-22-09; 8:45 am]

BILLING CODE 6717-01-P